DEPARTMENT OF AGRICULTURE

Farm Service Agency

[Docket ID: FSA-2021-0009]

Information Collection Request; Direct Loan Servicing—Special

AGENCY: Farm Service Agency, USDA.

ACTION: Notice; request for comments.

SUMMARY: In accordance with the Paperwork Reduction Act of 1995, the Farm Service Agency (FSA) is requesting comments from all interested individuals and organizations on an extension of a currently approved information collection that supports Direct Loan Servicing—Special. The information is used in eligibility and feasibility determinations on borrower requests for disaster set-aside, primary loan servicing, buyout at market value, and homestead protection, as well as liquidation of security.

DATES: We will consider comments that we receive August 30, 2021.

ADDRESSES: We invite you to submit comments on this notice. You may submit comments by any of the following methods:

• Federal eRulemaking Portal: Go to: www.regulations.gov and search for Docket ID FSA-2021-0009. Follow the online instructions for submitting comments.

• Mail, Hand-Delivery, or Courier: Carolyn Estrada, Senior Loan Officer, USDA/FSA 3140 S State Route 100, Tiffin, Ohio, 44883.

You may also send comments to the Desk Officer for Agriculture, Office of Information and Regulatory Affairs, Office of Management and Budget, Washington, DC 20503. Copies of the information collection may be requested by contacting Tyneca Jefferies at USDA/FSA/FLP, STOP 0523, 1400 Independence Avenue SW, Washington, DC 20250-0503.

FOR FURTHER INFORMATION CONTACT: For specific questions related to collection activities, contact Carolyn Estrada at (419) 447-7017—an extension number 2903; or, by email at: carolyn.estrada@usda.gov. Persons with disabilities who require alternative means for communication should contact the USDA Target Center at (202) 720-2600 or (844) 433-2774 (toll-free nationwide).

SUPPLEMENTARY INFORMATION:

Title: Farm Loan Programs; Direct Loan Servicing—Special.

OMB Control Number: 0560-0233.

OMB Expiration Date: 09/31/2021.

Type of Request: Extension with revision.

Abstract: FSA's Farm Loan Programs provide loans to family farmers to purchase real estate and equipment and finance agricultural production. 7 CFR 766, Direct Loan Servicing—Special, provides the requirements for servicing financially distressed and delinquent direct loan borrowers. FSA's loan servicing options include disaster set-aside, primary loan servicing (including reamortization, rescheduling, deferral, write down and conservation contracts), buyout at market value, and homestead protection. FSA also services borrowers who file bankruptcy or liquidate security when available servicing options are not sufficient to produce a feasible plan. The information collections contained in the regulation are necessary to evaluate a borrower's request for consideration of the special servicing actions.

The annual burden hours and the numbers of respondents and responses increased because the loan servicing activities increased slightly to reflect the current numbers since the last OMB approval.

For the following estimated total annual burden on respondents, the formula used to calculate the total burden hour is the estimated average time per response multiplied by the estimated total annual responses.

Estimate of Respondent Burden: Public reporting burden for this information collection is estimated to average 0.38 hours per response to include the time for reviewing instructions, searching information, gathering and maintaining information the data and completing and reviewing the collection of information.

Respondents: Individuals or households, businesses or other for profit farms.

Estimated Annual Number of Respondents: 17,174.

Estimated Number of Reponses per Respondent: 1.89.

Estimated Total Annual Responses: 32,496.

Estimated Average Time per Response: 0.38 hours.

Estimated Total Annual Burden on Respondents: 12,221 hours.

We are requesting comments on all aspects of this information collection to help us to:

(1) Evaluate whether the collection of information is necessary for the proper performance of the functions of the FSA, including whether the information will have practical utility;

(2) Evaluate the accuracy of the FSA's estimate of burden including the validity of the methodology and assumptions used;

(3) Enhance the quality, utility, and clarity of the information to be collected; or

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Zach Ducheneaux,
Administrator, Farm Service Agency.

[FR Doc. 2021-13874 Filed 6-28-21; 8:45 am]

BILLING CODE 3410-05-P